FEDERAL COMMUNICATIONS COMMISSION

[Report No. 2690]

Petitions for Reconsideration and Clarification of Action in Rulemaking Proceedings

January 31, 2005.

Petitions for Reconsideration and Clarification have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by March 2, 2005. See § 1.4(b)(1) of the Commission's rule (47 CFR 1.4(b)(1)). Replies to an opposition must be filed within 10 days after the time for filing oppositions have expired.

Subject: In the Matter of Amendment of Parts 73 and 74 of the Commission's Rules to Establish Rules for Digital Low Power Television, Television Translator, and Television Booster Stations and to Amend Rules for Digital Class A Television Stations. (MB Docket No. 03-185).

Number of Petitions Filed: 2.

Subject: In the Matter of the modification of Parts 2 and 15 of the Commission's Rules for unlicensed devices and equipment approval (ET Docket No. 03-201).

Number of Petitions Filed: 1.

Subject: In the Matter of new Part 4 of the Commission's Rules Concerning Disruptions to Communications (ET Docket No. 04-35).

Number of Petitions Filed: 9.

Marlene H. Dortch,
Secretary.

[FR Doc. 05-2887 Filed 2-14-05; 8:45 am]

BILLING CODE 6712-01-M